ENVIRONMENTAL PROTECTION AGENCY

[EPA-HQ-OPP-2018-0010; FRL-9977-76]

Pesticide Emergency Exemptions; Agency Decisions and State and Federal Agency Crisis Declarations

AGENCY: Environmental Protection Agency (EPA).

ACTION: Notice.

SUMMARY: EPA has granted emergency exemptions, and State agencies have declared crisis exemptions, under the Federal Insecticide, Fungicide, and Rodenticide Act (FIFRA) for the use of pesticides as listed in this notice. The exemptions were granted or declared during the period of October 1, 2017 to March 31, 2018 to control emergency pest outbreaks.

FOR FURTHER INFORMATION CONTACT: Michael L. Goodis, Director Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2018-0010, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document, EPA identifies the State or Federal agency granted the exemption, the type of exemption, the pesticide authorized and the target pests, the crop or use for which the pesticide was authorized, number of acres that could potentially be treated under the authorization (if applicable), and the duration of the exemption. EPA also gives the Federal Register citation for the time-limited tolerance, if any.

III. Emergency Exemptions

A. U.S. States and Territories

Alabama

Department of Agriculture and Industries

Specific exemptions: EPA authorized the use of the insecticide sulfoxaflor on a maximum of 45,000 acres of sorghum (grain and forage) to control sugarcane aphid. A time-limited tolerance in connection with this action has been established in 40 CFR 180.668(b); Effective April 1, 2018 to October 31, 2018.

EPA authorized the use of sulfoxaflor on a maximum of 75,000 acres of cotton to control tarnished plant bugs. Tolerances in connection with a previous action have been established in 40 CFR 180.668(a); Effective June 1, 2018 to October 31, 2018.

Arkansas

State Plant Board

Specific exemptions: EPA authorized the use of sulfoxaflor on a maximum of 50,000 acres of sorghum (grain and forage) to control sugarcane aphid. A time-limited tolerance in connection with this action has been established in 40 CFR 180.668(b); March 16, 2018 to September 15, 2018.

EPA authorized the use of sulfoxaflor on a maximum of 420,000 acres of cotton to control tarnished plant bugs. Tolerances in connection with a previous action have been established in 40 CFR 180.668(a); Effective June 1, 2018 to October 31, 2018.

EPA authorized the use of the insecticide flupyradifurone on a maximum of 200 acres of sweet sorghum (forage and syrup) to control sugarcane aphid. A time-limited tolerance in connection with this action has been established in 40 CFR 180.679(b); Effective June 1, 2018 to November 15, 2018.

California

Department of Pesticide Regulation

Quarantine exemptions: EPA authorized the uses of the antibiotics streptomycin and oxytetracycline on a maximum of 23,000 acres of citrus to manage Huanglongbing (HLB), also called citrus greening disease, caused by the bacterium Candidatus Liberibacter Asiaticus. Time-limited tolerances in connection with these actions have been established at 40 CFR 180.337(b) (oxytetracycline) and 180.245(b) (streptomycin). Effective February 23, 2018 to February 23, 2019.

Colorado

Department of Agriculture

Specific exemption: EPA authorized the use of sulfoxaflor on a maximum of 500,000 acres of sorghum (grain and forage) to control sugarcane aphid. A time-limited tolerance in connection with this action has been established in 40 CFR 180.668(b); Effective March 14, 2018 to November 30, 2018.

Florida

Department of Agriculture and Consumer Services

Specific exemptions: EPA authorized the use of the insecticide clothianidin on a maximum of 125,376 acres of immature (3 to 5 years old) citrus trees to manage the transmission of Huanglongbing (HLB) disease vectored by the Asian citrus psyllid. A time-limited tolerance in connection with this action was established in 40 CFR 180.668(b); Effective January 1, 2018 to October 31, 2018.

EPA authorized the use of streptomycin and oxytetracycline on a maximum of 330,254 acres of citrus to manage HLB or citrus greening disease caused by the bacteria, Candidatus Liberibacter Asiaticus. Time-limited tolerances in connection with these actions have been established at 40 CFR 180.337(b) (oxytetracycline) and 180.245(b) (streptomycin). Effective January 17, 2018 to December 31, 2018.

EPA authorized the use of the insecticide tolfenpyrad on a maximum of 51,600 acres of fruiting vegetables to control various thrips. A time-limited tolerance in connection with this action has been established in 40 CFR 180.675(b); Effective March 1, 2018 to March 1, 2019.

Georgia

Department of Agriculture

Specific exemption: EPA authorized the use of sulfoxaflor on a maximum of 50,000 acres of sorghum (grain and forage) to control sugarcane aphid. A time-limited tolerance in connection with this action has been established in 40 CFR 180.668(b); Effective May 1, 2018 to December 1, 2018.

Idaho

Department of Agriculture

Specific exemption: EPA authorized the use of the herbicide pyridate on a maximum of 9,500 acres of mint for postemergence control of herbicide-resistant annual weeds such as redroot pigweed, Amaranthus retroflexus and other broadleaf weeds. Tolerances in connection with an earlier registration action are established in 40 CFR 180.462(a). June 20, 2018 to August 10, 2018.

Kansas

Department of Agriculture

Specific exemption: EPA authorized the use of sulfoxaflor on a maximum of 2,850,000 acres of sorghum (grain and forage) to control sugarcane aphid. A time-limited tolerance in connection with this action has been established in 40 CFR 180.668(b); Effective March 14, 2018 to November 30, 2018.

Louisiana

Department of Agriculture

Specific exemptions: EPA authorized the use of sulfoxaflor on a maximum of 180,000 acres of sorghum (grain and forage) to control sugarcane aphid. A time-limited tolerance in connection with this action has been established in 40 CFR 180.668(b); Effective April 1, 2018 to October 31, 2018.

Mississippi

Department of Agriculture and Commerce

Specific exemptions: EPA authorized the use of sulfoxaflor on a maximum of 115,000 acres of sorghum (grain and forage) to control sugarcane aphid. A time-limited tolerance in connection with this action has been established in 40 CFR 180.668(b); Effective May 1, 2018 to October 31, 2018.

EPA authorized the use of sulfoxaflor on a maximum of 750,000 acres of cotton to control tarnished plant bugs. Tolerances in connection with a previous action have been established in 40 CFR 180.668(a); Effective June 1, 2018 to October 31, 2018.

Missouri

Department of Agriculture

Specific exemptions: EPA authorized the use of sulfoxaflor on a maximum of 85,000 acres of sorghum (grain and forage) to control sugarcane aphid. A time-limited tolerance in connection with this action has been established in 40 CFR 180.668(b); Effective March 30, 2018 to November 30, 2018.

EPA authorized the use of sulfoxaflor on a maximum of 241,500 acres of cotton to control tarnished plant bugs. Tolerances in connection with a previous action have been established in 40 CFR 180.668(a); Effective June 1, 2018 to October 31, 2018.

New Jersey

Department of Environmental Protection

Specific exemption: EPA authorized the use of dinotefuran on a maximum of 8,100 acres of pome and stone fruit to control the brown marmorated stink bug. A time-limited tolerance in connection with this action has been established in 40 CFR 180.603(b). Effective October 16, 2017 to October 31, 2017.

North Carolina

Department of Agriculture and Consumer Services

Specific exemptions: EPA authorized the use of the fungicide thiabendazole for postharvest use on 95,000 acres of sweet potatoes to control black rot disease. A time-limited tolerance in connection with this action has been established in 40 CFR 180.680(b); Effective March 12, 2018 to March 12, 2019.

EPA authorized the use of sulfoxaflor on a maximum of 50,000 acres of sorghum (grain and forage) to control sugarcane aphid. A time-limited tolerance in connection with this action has been established in 40 CFR 180.668(b); Effective March 14, 2018 to November 30, 2018.

Oregon

Department of Agriculture

Specific exemption: EPA authorized the use of pyridate on a maximum of 5,200 acres of mint for postemergence control of herbicide-resistant annual weeds such as redroot pigweed, Armaranthus retroflexus and other broadleaf weeds. Tolerances in connection with an earlier registration action are established in 40 CFR 180.462(a). Effective June 20, 2018 to August 10, 2018.

Pennsylvania

Department of Agriculture

Specific exemption: EPA authorized the use of the insecticide etofenprox for use in mushroom cultivation on up to 16 million square feet (equivalent to 2,000 mushroom houses) to control Sciarid and Phorid fly species. Tolerances in connection with a previous action have been established in 40 CFR 180.620(a), to cover any residues as a result of this emergency exemption use; Effective December 20, 2017 to December 20, 2018.

Puerto Rico

Department of Health

Crisis exemption: On October 8, 2017 the Puerto Rico Department of Health declared a crisis exemption for use of sodium dichloroisocyanurate for treatment by the general public of drinking water to control microbes. The use season is expected to last year-round and a public health exemption request was also submitted, allowing the use to continue until EPA's decision on the request.

Public health exemption: EPA authorized the use of sodium dichloroisocyanurate for treatment by the general public of drinking water to control microbes. Effective January 2, 2018 to January 2, 2019.

Tennessee

Department of Agriculture

Specific exemption: EPA authorized the use of sulfoxaflor on a maximum of 285,000 acres of cotton to control tarnished plant bugs. Tolerances in connection with a previous action have been established in 40 CFR 180.668(a); Effective June 1, 2018 to September 30, 2018.

EPA authorized the use of flupyradifurone on a maximum of 750 acres of sweet sorghum (forage and syrup) to control sugarcane aphid. A time-limited tolerance in connection with this action has been established in 40 CFR 180.679(b). Effective June 1, 2018 to November 15, 2018.

Texas

Department of Agriculture

Specific exemptions: EPA authorized the use of tolfenpyrad on a maximum of 10,000 acres of dry bulb onions to control thrips (Thrips tabaci). A time-limited tolerance in connection with this action has been established in 40 CFR 180.675(b). Effective January 11, 2018 to July 10, 2018.

EPA authorized the use of sulfoxaflor on a maximum of 5,500,000 acres of cotton to control tarnished plant bugs. Tolerances in connection with a previous action have been established in 40 CFR 180.668(a). Effective March 1, 2018 to October 31, 2018.

EPA authorized the use of sulfoxaflor on a maximum of 3,000,000 acres of sorghum (grain and forage) to control sugarcane aphid. A time-limited tolerance in connection with this action has been established in 40 CFR 180.668(b); Effective April 1, 2018 to November 30, 2018.

Washington

Department of Agriculture

Specific exemption: EPA authorized the use of pyridate on a maximum of 16,000 acres of mint for postemergence control of herbicide-resistant annual weeds such as redroot pigweed, Amaranthus retroflexus and other broadleaf weeds. Tolerances in connection with an earlier registration action are established in 40 CFR 180.462(a). Effective May 21, 2018 to August 31, 2018.

Wyoming

Department of Agriculture

Specific exemption: EPA authorized the use of the herbicide indaziflam on a maximum of 300,000 acres of rangeland, pastures, and Conservation Reserve Program to control medusahead and ventenata. Time-limited tolerances in connection with this action will be established in 40 CFR 180.653(b). Effective September 14, 2017 to September 14, 2018.

B. Federal Departments and Agencies

EPA did not authorize any emergency exemptions to any Federal agencies during the time period of October 1, 2017 to March 31, 2018.

Authority: 7 U.S.C. 136 et seq.

Dated: May 21, 2018.
Michael L. Goodis,
Director, Registration Division, Office of Pesticide Programs.

[FR Doc. 2018-11751 Filed 5-30-18; 8:45 am]

BILLING CODE 6560-50-P